DEPARTMENT OF AGRICULTURE

Commodity Credit Corporation

Meeting of the Advisory Committee on Emerging Markets

Announcement Type: New.

Catalog of Federal Domestic Assistance (CFDA) Number: 10.603.

SUMMARY: Pursuant to the provisions of section 10(a)(2) of the Federal Advisory Committee Act (Pub. L. 92-463), notice is hereby given that a meeting of the Advisory Committee on Emerging Markets will be held on September 14, 2010, in Washington, DC. The role of the committee is to provide information and advice, based upon knowledge and expertise of the members, useful to the U.S. Department of Agriculture (USDA) in implementing the Emerging Markets Program. The committee also advises USDA on the involvement of the U.S. private sector in cooperative work with emerging markets in food and rural business systems, and reviews proposals submitted to the Program.

DATES: There will be a “Welcome” conference call on July 22, 2010, at 2 p.m. EDT, and the meeting will convene on September 14, 2010, from 9:30 a.m. to 5:30 p.m. EDT.

ADDRESSES: The meeting will be held in the 4th Floor, Room 411 Portals Building, 1250 Maryland Ave., SW., Washington, DC 20024. Please submit comments by no later than September 10, 2010, by e-mail to podadmin@fas.usda.gov or by FAX to 202-720-9361.

FOR FURTHER INFORMATION CONTACT: Colette Ross, Colette.Ross@fas.usda.gov, (202) 720-2379.

SUPPLEMENTARY INFORMATION: The purpose of this meeting is to review and discuss qualified proposals submitted by the private sector for participation in the fiscal year 2011 Emerging Markets Program. The meeting is open to the public, and members of the public may provide comments, but they should not make any oral comments at the meeting unless invited to do so by the co-chairpersons. The proposals will be posted on the Federal Advisory Committee's Database at: http://fido.gov/facadatabase/public.asp.

Information on the advisory committee and the Emerging Markets Program is also available on the Web at: http://www.fas.usda.gov/mos/em-markets/em-markets.asp.

Signed at Washington, DC, on July 27, 2010.
John D. Brewer,
Administrator, Foreign Agricultural Service, and Vice President, Commodity Credit Corporation.

[FR Doc. 2010-20101 Filed 8-12-10; 8:45 am]

BILLING CODE 3410-10-P